DEPARTMENT OF TRANSPORTATION

Federal Aviation Administration

14 CFR Part 71

[Docket No. FAA-2008-0187; Airspace Docket No. 07-ASO-27]

Modification of Area Navigation Route Q-110 and Jet Route J-73; Florida

AGENCY: Federal Aviation Administration (FAA), DOT.

ACTION: Final rule; correction.

SUMMARY: This action corrects a final rule published in the Federal Register on July 30, 2008; Airspace Docket No. 07-ASO-27, FAA Docket No. FAA-2008-0187. In that rule, an error was made in the navigation aid radials stated in the description for jet route J-73. This action corrects that error. The description of area navigation route Q-110 is correct as published in the rule.

DATES: Effective Date: 0901 UTC, September 25, 2008. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On July 30, 2008, a final rule for Airspace Docket No. 07-ASO-27, FAA Docket No. FAA-2008-0187 was published in the Federal Register (73 FR 44147) to modify area navigation route Q-110 and jet route J-73. The legal description for J-73 contained an error in the radials used to form an intersection on the route between the La Belle, FL, very high frequency omnidirectional range/tactical air navigation (VORTAC) aid and the Lakeland, FL, VORTAC. The rule incorrectly described the point as: “* * * INT Labelle 314° and Lakeland, FL 162° radials. * * *” The correct version should read “* * * INT Labelle 313° and Lakeland, FL 161° radials. * * *” This action corrects the error. The description of route Q-110 is correct as published in the rule.

Correction to Final Rule

Accordingly, pursuant to the authority delegated to me, the legal description as published in the Federal Register on July 30, 2008 (73 FR 44147), Airspace Docket No. 07-ASO-27, FAA Docket No. FAA-2008-0187, and incorporated by reference in 14 CFR 71.1, is corrected as follows:

§ 71.1 [Amended]

Paragraph 2004 Jet Routes.

* * * * *

On page 44148 correct the legal description for J-73, to read as follows:

J-73 [Corrected]

From Dolphin, FL; LaBelle, FL; INT Labelle 313° and Lakeland, FL, 161° radials; Lakeland; Seminole, FL; La Grange, GA; Nashville, TN; Pocket City, IN; to Northbrook, IL.

* * * * *

Issued in Washington, DC, on August 13, 2008.
Edith V. Parish,
Manager, Airspace and Rules Group.

[FR Doc. E8-19276 Filed 8-22-08; 8:45 am]

BILLING CODE 4910-13-P